DEPARTMENT OF HEALTH AND HUMAN SERVICES

45 CFR Part 18

Official Symbol, Logo and Seal

AGENCY: Office of the Secretary, HHS.

ACTION: Final rule.

SUMMARY: The U.S. Department of Health and Human Services (HHS) is adopting final regulations containing a description of its official symbol, logo, and seal.

DATES: This rule is effective April 13, 2015 without further action.

FOR FURTHER INFORMATION CONTACT: Gloria Barnes, Office of the Assistant Secretary for Public Affairs (gloria.barnes@hhs.gov).

SUPPLEMENTARY INFORMATION: HHS is adopting regulations (45 CFR part 18) describing its official logo and seal. HHS has developed a symbol, logo, and seal that signifies the authoritativeness of the item or document to which it is affixed as an official endorsement of HHS. Pursuant to 5 U.S.C. 553(b)(A), notice and comment are not required because this rule only impacts HHS' procedure and practice. In addition, pursuant to 5 U.S.C. 553(b)(B), there is good cause to waive notice and comment as unnecessary, because this rule is non-controversial and merely describes HHS' official symbol, logo, and seal.

HHS previously published a Direct Final Rule on April 14, 2014 (79 FR 20801). In response, HHS received two public comments. Among other things, both comments argued that the rule violated the First Amendment. The commenters argued that restrictions in the Direct Final Rule violated the First Amendment by not including exceptions for certain uses of the seal (e.g., for illustrative purposes by the media). HHS withdrew this rule on June 4, 2014 (79 FR 32170). HHS is now publishing a Final Rule that merely describes the Department's symbol, seal, and logo.

Executive Order No. 12866

This rule does not meet the criteria for a significant regulatory action under Executive Order 12866. Thus, review by the Office of Management and Budget is not required.

Regulatory Flexibility Act

This rule will not have a significant economic impact on a substantial number of small entities. Therefore, a regulatory flexibility analysis as provided by the Regulatory Flexibility Act, as amended, is not required.

Paperwork Reduction Act

This rule does not contain any collections of information subject to the Paperwork Reduction Act.

List of Subjects in 45 CFR Part 18

Seals and insignia.

For the reasons set out in the preamble, HHS adds Part 18 to Title 45, Subtitle A, subchapter A of the Code of Federal Regulations as follows:

Subtitle A—DEPARTMENT OF HEALTH AND HUMAN SERVICES

Subchapter A—GENERAL ADMINISTRATION

PART 18—OFFICIAL SYMBOL, LOGO, AND SEAL

Sec.
18.1 Description of the Symbol, Logo, and Seal.

Authority: 42 U.S.C. 3505 and 5 U.S.C. 301.

§ 18.1 Description of the Symbol, Logo, and Seal.

(a) The Departmental Symbol (Symbol) of the Department of Health and Human Services (HHS) is the key element in Department identification. It represents the American People sheltered in the wing of the American Eagle, suggesting the Department's concern and responsibility for the welfare of the people. This Symbol is the visual link which connects the graphic communications of all components and programs of the Department. It is the major design component for the Department Identifiers — the Department Logo, Seal, and Signatures.

(b) The Symbol is described as follows: The outline of an American Eagle, facing left, with one of its wings stretched upward and the other wing pointed downward, is flanked on its right side by two outlines of the profile of a human head, both of which are located in between the eagle's wings. One of the profile outlines is smaller than the other and is nestled in the larger outline.

(c) The HHS Departmental Logo (Logo) incorporates the Symbol and is described as follows: From the tip of the outstretched wing of the American Eagle in symbol to the tip of the other, downward-facing wing, the words, “DEPARTMENT OF HEALTH & HUMAN SERVICES • USA” form a circular arc. The official colors of the Logo are either Black or Reflex Blue. Reflex Blue RGB Numbers: 0/0/153 (R0, G0, B153)

(d) The HHS Departmental Seal (Seal) incorporates the Symbol and is described as follows: Starting from the tip of the downward-facing wing of the American Eagle in the HHS symbol and forming a complete circle clockwise around the HHS symbol, the words, “DEPARTMENT OF HEALTH & HUMAN SERVICES • USA •” are printed, surrounded by a border composed of a solid inner ring at the base of the text and a triangular, scalloped edge at the top of the text. The official colors of the Seal are Reflex Blue and Gold [Reflex Blue RGB Numbers: 0/0/153 (R0, G0, B153); Reflex Gold RGB Numbers: 254/252/1 (R254, G252, B1)]. The Seal may also appear in Reflex Blue or Black.

(e) The HHS Departmental symbol, logo, and seal shall each be referred to as an HHS emblem and shall collectively be referred to as HHS emblems.

Dated: March 4, 2015.
Sylvia M. Burwell,
Secretary.

[FR Doc. 2015-05536 Filed 3-12-15; 8:45 am]

BILLING CODE 4150-04-P